DEPARTMENT OF COMMERCE

National Oceanic and Atmospheric Administration

[I.D. 070904C]

Pacific Fishery Management Council; Public Meetings

AGENCY: National Marine Fisheries Service (NMFS), National Oceanic and Atmospheric Administration (NOAA), Commerce.

ACTION: Notice of public meetings.

SUMMARY: The Pacific Fishery Management Council's (Council) Coastal Pelagic Species Advisory Subpanel (CPSAS) and Coastal Pelagic Species Management Team (CPSMT) will hold public meetings.

DATES: The CPSAS will meet Tuesday, August 3, 2004 starting at 10 a.m. The CPSAS will reconvene Wednesday, August 4, from 8 a.m. until business for the day is completed. The CPSMT will meet Thursday, August 5, from 9 a.m. until business for the day is completed.

ADDRESSES: Both meetings will be held at the Sheraton Portland Airport Hotel, Cascade Room, 8235 NE Airport Way, Portland, OR 97220-1398; telephone: (503) 281-2500.

Council address: Pacific Fishery Management Council, 7700 NE Ambassador Place, Suite 200, Portland, OR 97220-1384.

FOR FURTHER INFORMATION CONTACT: Mr. Dan Waldeck, Pacific Fishery Management Council; telephone: (503) 820-2280.

SUPPLEMENTARY INFORMATION: The primary purpose of the CPSAS meeting is to develop information for the Council regarding a new framework for annual allocation of the Pacific sardine harvest guideline under the Coastal Pelagic Species (CPS) Fishery Management Plan (FMP). This meeting is part of the process through which the Council will prepare an Environmental Impact Statement in accordance with the National Environmental Policy Act (NEPA) of 1969 to analyze a range of alternatives for the annual allocation of the Pacific sardine harvest guideline. NEPA requires consideration of a full range of reasonable alternatives including status quo (no action). The Council has not yet developed alternatives nor determined a preferred alternative. The tentative schedule for Council actions related to this matter is: September 2004, progress report; November 2004, review preliminary range of draft alternatives; January-February 2005, public hearings on range of alternatives; March or April 2005, preliminary action; June 2005, final action. If this schedule holds, and NMFS approves the Council action, the Council anticipates implementation of the new Pacific sardine allocation framework in time for the 2006 Pacific sardine fishery, which opens January 1.

The CPSAS will also review a draft report from the recent CPS stock assessment review (STAR) panel (69 FR 31967). Finally, the CPSAS will review draft information from the Channel Islands National Marine Sanctuary (CINMS) related to proposed management alternatives for establishing marine reserves and marine conservation areas in CINMS.

The CPSMT will review the draft CPS STAR report. The CPSMT will also consider a suite of CPS FMP-related issues that NMFS requested the Council consider. These issues include FMP harvest control rules, compatibility between California's proposed market squid FMP and the Council's CPS FMP, market squid overfishing definitions, CPS FMP bycatch provisions and pilot at-sea observer program, essential fish habitat, and five-year review of the CPS FMP Environmental Impact Statement. The CPSMT will review these issues identify issues that could be addressed through amendment of the CPS FMP, and if the issues could be addressed in the short-term or would require more extensive time to complete.

The CPSAS and CPSMT will report to the Council on each of these topics at the September 2004 Council meeting in Del Mar, CA.

Although non-emergency issues not contained in the CPSMT and CPSAS meeting agendas may come before the committees for discussion, those issues may not be the subject of formal action during this meeting. Action will be restricted to those issues specifically listed in this document and any issues arising after publication of this document that require emergency action under Section 305(c) of the Magnuson-Stevens Fishery Conservation and Management Act, provided the public has been notified of the CPSMT's or CPSAS's intent to take final action to address the emergency.

Special Accommodations

The meetings are physically accessible to people with disabilities. Requests for sign language interpretation or other auxiliary aids should be directed to Ms. Carolyn Porter at (503) 820-2280 at least 5 days prior to the meeting date.

Dated: July 9, 2004.
Alan D. Risenhoover,
Acting Director, Office of Sustainable Fisheries, National Marine Fisheries Service.

[FR Doc. E4-1569 Filed 7-14-04; 8:45 am]

BILLING CODE 3510-22-S